OFFICE OF THE UNITED STATES TRADE REPRESENTATIVE

Generalized System of Preferences (GSP): Notice Regarding the Disposition of a Product Petition From the 2011 GSP Annual Product Review and the Acceptance of Product Petitions for the 2012 GSP Annual Product Review

AGENCY: Office of the United States Trade Representative.

ACTION: Notice.

SUMMARY: This notice announces (1) the disposition of a petition on certain pinch-seal plastic bags, accepted in the 2011 GSP Annual Product Review, and (2) those petitions submitted in connection with the 2012 GSP Annual Product Review which have been accepted for further review. This notice also sets forth the schedule for submitting comments and for public hearings associated with the 2012 review of petitions and products.

FOR FURTHER INFORMATION CONTACT: Tameka Cooper, GSP Program, Office of the United States Trade Representative, 600 17th Street NW., Room 422, Washington, DC 20508. The telephone number is (202) 395-6971, the fax number is (202) 395-9674, and the email address is Tameka_Cooper@ustr.eop.gov.

DATES: The GSP regulations (15 CFR part 2007) provide the schedule of dates for conducting an annual review, unless otherwise specified in a notice published in the Federal Register. The schedule for the 2012 GSP Annual Product Review is set forth below. Notification of any other changes will be published in the Federal Register.

February 14, 2013—Comments, pre-hearing briefs, and requests to appear at the GSP Subcommittee Public Hearing on the 2012 GSP Annual Product Review are due by 5 p.m.

February 28, 2013—GSP Subcommittee Public Hearing on all proposed or petitioned product additions and competitive need limitation (CNL) waiver petitions accepted for the 2012 GSP Annual Product Review. See “Notice of Public Hearing” below for further details.

March 28, 2013—Submission of post-hearing comments or briefs in connection with the GSP Subcommittee Public Hearing are due by 5 p.m.

April 2013—The U.S. International Trade Commission (USITC) is expected to release the public version of its statutorily-mandated report providing advice on the probable economic effect of the prospective addition of products and granting of CNL waiver petitions considered as part of the 2012 GSP Annual Product Review. Comments on the USITC report on these products should be submitted via www.regulations.gov in Docket Number USTR-2012-0013, per the guidelines described below, within 10 calendar days after the date of USITC's publication of the public version of the report.

July 1, 2013—Effective date for any modifications that the President proclaims to the list of articles eligible for duty-free treatment under the GSP resulting from the 2012 Annual Product Review and for determinations related to CNL waivers.

SUPPLEMENTARY INFORMATION: The GSP program provides for the duty-free importation of designated articles when imported from designated beneficiary developing countries. The GSP program is authorized by title V of the Trade Act of 1974 (19 U.S.C. 2461, et seq.), as amended, and is implemented in accordance with Executive Order 11888 of November 24, 1975, as modified by subsequent Executive Orders and Presidential Proclamations.

Disposition of a Petition Requesting Modification of Product Eligibility From the 2011 Annual GSP Review

In the 2011 Annual Review, the Administration deferred a decision on the final disposition of a petition to add certain pinch-seal plastic bags (categorized under subheading 3923.21.0030 of the Harmonized Tariff Schedule (HTS)) to the list of products eligible for duty-free treatment under GSP. The review of this petition has now concluded, and the Administration has decided to deny the petition. As a result, there will be no change to the current status of this product under GSP.

Petitions Requesting Modifications of Product Eligibility for the 2012 Annual GSP Review

In a notice published in the Federal Register on July 30, 2012, USTR announced the initiation of the 2012 GSP Annual Review and indicated that the deadline for petitions to modify the list of products that are eligible for duty-free treatment under the GSP program was October 5, 2012, and the deadline for petitions to waive CNLs on imports of certain products from specific beneficiary countries was November 21, 2012 (77 FR 44704).

The GSP Subcommittee of the Trade Policy Staff committee (TPSC) has reviewed the product and CNL waiver petitions submitted in response to this announcement, and has decided to accept for review petitions to add four products to the list of those eligible for duty-free treatment under GSP and petitions to waive CNLs for 12 products from certain countries. The accepted product addition petitions are for the following products, listed by HTS number:

• 0603.11.00--Fresh cut sweetheart, and spray roses

• 0710.80.97--Frozen vegetables not otherwise listed, including frozen broccoli

• 2005.99.80--Artichokes, prepared or preserved otherwise than by vinegar or acetic acid

• 7408.19.0030--Refined copper, wire, w/maximum cross-sectional dimension of 6 mm or less

The accepted petitions to waive CNLs relate to the following products listed by HTS number and countries:

• 0410.00.00-- Miscellaneous edible products of animal origin (Indonesia)

• 0603.13.00--Cut orchids (Thailand)

• 1102.90.25--Rice flour (Thailand)

• 2106.90.99--Miscellaneous prepared foods (Thailand)

• 6911.10.37--Porcelain or china table and kitchenware (Indonesia)

• 7202.21.50--Ferrosilicon with between 55% and 80% of silicon by weight (Russia)

• 7202.30.00--Ferrosilicon manganese (Georgia)

• 7202.99.20--Calcium silicon ferroalloys (Brazil)

• 7307.21.50--Certain stainless steel flanges for pipes (India)

• 7307.91.50--Certain iron or steel flanges for pipes (India)

• 7408.29.10--Copper plates, sheets, and strip (Thailand)

• 9506.70.40--Ice skates (Thailand)

A list of all the CNL petitions and products accepted for review is posted on the USTR Web site at http://www.ustr.gov/trade-topics/trade-development/preference-programs/generalized-system-preferences-gsp/current-review under the title “Petitions Accepted in the 2012 GSP Annual Product Review.” This list can also be found at www.regulations.gov in Docket Number USTR-2012-0013. No other petitions to modify the list of products eligible for duty-free treatment under GSP or to grant CNL waivers have been accepted for the 2012 GSP Annual Product Review. Acceptance of a petition for review does not indicate any opinion with respect to the disposition on the merits of the petition. Acceptance indicates only that the subject petition has been found eligible for review by the TPSC and that such review will take place.

The GSP Subcommittee of the TPSC invites comments in support of or in opposition to any product or petition that has been accepted for the 2012 GSP Annual Product Review. The GSP Subcommittee of the TPSC will also convene a public hearing on these products and petitions. See below for information on how to submit a request to testify at this hearing.

Requirements for Submissions

Submissions in response to this notice (including requests to testify, written comments, and pre-hearing and post-hearing briefs) must be submitted by the applicable deadlines set forth in this notice. All submissions must be made in English and submitted electronically via http://www.regulations.gov, using docket number USTR-2012-0013. Hand-delivered submissions will not be accepted. To make a submission using http://www.regulations.gov, enter docket number USTR-2012-0013 in the “Search for” field on the home page and click “Search.” The site will provide a search-results page listing all documents associated with this docket. Find a reference to this notice by selecting “Notice” under “Document Type” in the “Filter Results by” section on the left side of the screen and click on the link entitled “Comment Now.” The http://www.regulations.gov Web site offers the option of providing comments by filling in a “Type Comment” field or by attaching a document using the “Upload file(s)” field. The Subcommittee prefers that submissions be provided in an attached document and that, in such cases, that parties note “See attached” in the “Type Comment” field on the online submission form. At the beginning of the submission, or on the first page (if an attachment) should be the following text (in bold and underlined): (1) “2012 GSP Annual Review;” (2) the product description, and related HTS tariff number; and (3) whether the document is a “Written Comment,” “Notice of Intent to Testify,” “Pre-hearing brief,” or a “Post-hearing brief.” Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review. If an interested party is unable to provide submissions as requested, please contact the GSP Program at USTR to arrange for an alternative method of transmission.

Business Confidential Submissions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

Notice of Public Hearing

The GSP Subcommittee of the TPSC will hold a hearing on products and petitions accepted for the 2012 GSP Annual Review beginning at 9:30 a.m. on Thursday, February 28, 2013 at the Office of the U.S. Trade Representative, Rooms 1 and 2, 1724 F St. NW., Washington, DC 20508. The hearing will be open to the public, and a transcript of the hearing will be made available on www.regulations.gov within approximately two weeks of the hearing. No electronic media coverage will be allowed.

All interested parties wishing to make an oral presentation at the hearing must submit, following the above “Requirements for Submissions,” the name, address, telephone number, and email address (if available), of the witness(es) representing their organization to William D. Jackson, Deputy Assistant U.S. Trade Representative for GSP. Requests to present oral testimony in connection with the public hearing must be accompanied by a written brief or summary statement, in English, and must be received by 5 p.m., February 14, 2013. Oral testimony before the GSP Subcommittee will be limited to five-minute presentations that summarize or supplement information contained in briefs or statements submitted for the record. Parties not wishing to appear at the public hearing may submit, in English, pre-hearing briefs or statements and post-hearing written briefs or statements in accordance with the “Requirements for Submissions” above and by the above listed due dates. Public versions of all documents relating to the 2012 Annual Review will be made available for public viewing in docket USTR-2012-0013 at www.regulations.gov upon completion of processing and no later than one week after the due date.

William D. Jackson,
Deputy Assistant U.S. Trade Representative for the Generalized System of Preferences, Office of the U.S. Trade Representative.

[FR Doc. 2012-31282 Filed 12-27-12; 8:45 am]

BILLING CODE 3290-F3-P